ENVIRONMENTAL PROTECTION AGENCY

[EPA-HQ-OPPT-2010-1008; FRL 9511-4]

Agency Information Collection Activities; Submission to OMB for Review and Approval; Comment Request; TSCA Sec. 8(a) Preliminary Assessment Information Rule (PAIR)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: TSCA Sec. 8(a) Preliminary Assessment Information Rule (PAIR); EPA ICR No. 0586.12, OMB Control No. 2070-0054. The ICR, which is abstracted below, describes the nature of the information collection activity and its expected burden and costs.

DATES: Additional comments may be submitted on or before February 27, 2012.

ADDRESSES: Submit your comments, referencing docket ID Number EPA-HQ-OPPT-2010-1008 to (1) EPA online using www.regulations.gov (our preferred method), by email to oppt.ncic@epa.gov or by mail to: Document Control Office (DCO), Office of Pollution Prevention and Toxics (OPPT), Environmental Protection Agency, Mail Code: 7407T, 1200 Pennsylvania Ave. NW., Washington, DC 20460, and (2) OMB at: Office of Information and Regulatory Affairs, Office of Management and Budget (OMB), Attention: Desk Officer for EPA, 725 17th Street NW., Washington, DC 20503.

FOR FURTHER INFORMATION CONTACT: Pamela Myrick, Acting Director, Environmental Assistance Division, Office of Pollution Prevention and Toxics, Environmental Protection Agency, Mail code: 7408-M, 1200 Pennsylvania Ave. NW., Washington, DC 20460; telephone number: (202) 554-1404; email address: TSCA-Hotline@epa.gov.

SUPPLEMENTARY INFORMATION: EPA has submitted the following ICR to OMB for review and approval according to the procedures prescribed in 5 CFR 1320.12. On August 10, 2011 (76 FR 49469), EPA sought comments on this renewal pursuant to 5 CFR 1320.8(d). EPA received one supportive comment during the comment period, which did not result in any change to the Supporting Statement. Any comments related to this ICR should be submitted to EPA and OMB within 30 days of this notice.

EPA has established a public docket for this ICR under Docket ID No. EPA EPA-HQ-OPPT-2010-1008, which is available for online viewing at http://www.regulations.gov, or in person inspection at the OPPT Docket in the EPA Docket Center (EPA/DC), EPA West, Room 3334, 1301 Constitution Ave. NW., Washington, DC. The EPA Docket Center Public Reading Room is open from 8 a.m. to 4:30 p.m., Monday through Friday, excluding legal holidays. The telephone number for the Reading Room is (202) 566-1744, and the telephone number for the Pollution Prevention and Toxics Docket is (202) 566-0280. Use www.regulations.gov to submit or view public comments, access the index listing of the contents of the public docket, and to access those documents in the public docket that are available electronically. Once in the system, select “search,” then key in the docket ID number identified above.

EPA's policy is that public comments, whether submitted electronically or in paper, will be made available for public viewing in www.regulations.gov as EPA receives them and without change, unless the comment contains copyrighted material, confidential business information (CBI), or other information whose public disclosure is restricted by statute. When EPA identifies a comment containing copyrighted material, EPA will provide a reference to that material in the version of the comment that is placed in www.regulations.gov. The entire printed comment, including the copyrighted material, will be available in the public docket. Although identified as an item in the official docket, information claimed as CBI, or whose disclosure is otherwise restricted by statute, is not included in the official public docket, and will not be available for public viewing in www.regulations.gov. For further information about the electronic docket, go to www.regulations.gov.

Title: TSCA Sec. 8(a) Preliminary Assessment Information Rule (PAIR).

ICR Status: This is a request to renew an existing approved collection. This ICR is scheduled to expire on January 31, 2012. Under OMB regulations, the Agency may continue to conduct or sponsor the collection of information while this submission is pending at OMB.

Abstract: Section 8(a) of the Toxic Substances Control Act (TSCA) authorizes EPA to promulgate rules under which manufacturers, importers and processors of chemical substances and mixtures must maintain records and submit reports to EPA. EPA has promulgated the Preliminary Assessment Information Rule (PAIR) under TSCA section 8(a). EPA uses PAIR to collect information to identify, assess and manage human health and environmental risks from chemical substances, mixtures and categories. PAIR requires chemical manufacturers and importers to complete a standardized reporting form to help evaluate the potential for adverse human health and environmental effects caused by the manufacture or importation of identified chemical substances, mixtures or categories. Chemicals identified by EPA or any other federal agency, for which a justifiable information need for production, use or exposure-related data can be satisfied by the use of the PAIR are proper subjects for TSCA section 8(a) PAIR rulemaking. In most instances the information that EPA receives from a PAIR report is sufficient to satisfy the information need in question. This information collection addresses the reporting and recordkeeping requirements associated with TSCA section 8(a).

Responses to the collection of information are mandatory (see 40 CFR parts 712, 766, and 792). Respondents may claim all or part of a notice as CBI. EPA will disclose information that is covered by a CBI claim only to the extent permitted by, and in accordance with, the procedures in 40 CFR part 2.

An agency may not conduct or sponsor, and a person is not required to respond to, a collection of information unless it displays a currently valid OMB control number. The OMB control numbers for EPA's regulations in title 40 of the CFR, after appearing in the Federal Register, are listed in 40 CFR part 9 and included on the related collection instrument or form, if applicable.

Burden Statement: The annual public reporting and recordkeeping burden for this collection of information is estimated to average about 28.7 hours per response. Burden is defined in 5 CFR 1320.3(b).

Respondents/Affected Entities: Entities potentially affected by this action are manufacturers, processors or importers of chemical substances, mixtures or categories.

Frequency of Collection: On occasion.

Estimated average number of responses for each respondent: 2.2.

Estimated No. of Respondents: 15.

Estimated Total Annual Burden on Respondents: 948 hours.

Estimated Total Annual Costs: $59,158.

Changes in Burden Estimates: This request reflects a decrease of 620 hours (from 1,568 hours to 948 hours) in the total estimated respondent burden from that currently in the OMB inventory. This decrease reflects a decrease in the assumed number of PAIR reports filed annually, and the average annual number of respondents, based on the past five fiscal years of PAIR reporting data. The Supporting Statement provides details about the change in burden estimate. The change is an adjustment.

John Moses,
Director, Collection Strategies Division.

[FR Doc. 2012-1776 Filed 1-26-12; 8:45 am]

BILLING CODE 6560-50-P